DEPARTMENT OF ENERGY

Federal Energy Regulatory Commission

Combined Notice of Filings #1

Take notice that the Commission has received the following Natural Gas Pipeline Rate and Refund Report filings:

Filings Instituting Proceedings

Docket Numbers: RP18-210-000.

Applicants: Transcontinental Gas Pipe Line Company.

Description: § 4(d) Rate Filing: Negotiated Rates—Cherokee AGL—Replacement Shippers—Dec 2017 to be effective 12/1/2017.

Filed Date: 11/30/17.

Accession Number: 20171130-5094.

Comments Due: 5 p.m. ET 12/12/17.

Docket Numbers: RP18-211-000.

Applicants: Northern Natural Gas Company.

Description: § 4(d) Rate Filing: 20171130 Negotiated Rate to be effective 12/1/2017.

Filed Date: 11/30/17.

Accession Number: 20171130-5096.

Comments Due: 5 p.m. ET 12/12/17.

Docket Numbers: RP18-212-000.

Applicants: Gulf Crossing Pipeline Company LLC.

Description: § 4(d) Rate Filing: Amendments to Neg Rate Agmts (Devon 10, Enterprise 12, BP 37) to be effective 11/30/2017.

Filed Date: 11/30/17.

Accession Number: 20171130-5108.

Comments Due: 5 p.m. ET 12/12/17.

Docket Numbers: RP18-213-000.

Applicants: Texas Gas Transmission, LLC.

Description: § 4(d) Rate Filing: Cap Rel Neg Rate Agmts (RE Gas 35433, 34955 to BP 36803, 36804) to be effective 12/1/2017.

Filed Date: 11/30/17.

Accession Number: 20171130-5110.

Comments Due: 5 p.m. ET 12/12/17.

Docket Numbers: RP18-214-000.

Applicants: Mojave Pipeline Company, L.L.C.

Description: § 4(d) Rate Filing: Annual Fuel and L&U Filing 2018 to be effective 1/1/2018.

Filed Date: 11/30/17.

Accession Number: 20171130-5118.

Comments Due: 5 p.m. ET 12/12/17.

Docket Numbers: RP18-215-000.

Applicants: Gulf South Pipeline Company, LP.

Description: § 4(d) Rate Filing: Cap Rel Neg Rate Agmts (PH 41455 to NextEra 48678, Texla 48792) to be effective 12/1/2017.

Filed Date: 11/30/17.

Accession Number: 20171130-5119.

Comments Due: 5 p.m. ET 12/12/17.

Docket Numbers: RP18-216-000.

Applicants: Gulf South Pipeline Company, LP.

Description: § 4(d) Rate Filing: Cap Rel Neg Rate Agmts (Atlanta Gas 8438 to various eff 12-1-17) to be effective 12/1/2017.

Filed Date: 11/30/17.

Accession Number: 20171130-5120.

Comments Due: 5 p.m. ET 12/12/17.

Docket Numbers: RP18-217-000.

Applicants: Rockies Express Pipeline LLC.

Description: § 4(d) Rate Filing: Neg Rate 2017-11-30 BP(2), Encana to be effective 12/1/2017.

Filed Date: 11/30/17.

Accession Number: 20171130-5151.

Comments Due: 5 p.m. ET 12/12/17.

Docket Numbers: RP18-218-000.

Applicants: Trailblazer Pipeline Company LLC.

Description: § 4(d) Rate Filing: Neg Rate 2017-11-30 Morgan Stanley to be effective 12/1/2017.

Filed Date: 11/30/17.

Accession Number: 20171130-5152.

Comments Due: 5 p.m. ET 12/12/17.

Docket Numbers: RP18-219-000.

Applicants: Nautilus Pipeline Company, L.L.C.

Description: § 4(d) Rate Filing: Nautilus Changes to FT-2 3.8 to be effective 1/1/2018.

Filed Date: 11/30/17.

Accession Number: 20171130-5176.

Comments Due: 5 p.m. ET 12/12/17.

Docket Numbers: RP18-220-000.

Applicants: Nautilus Pipeline Company, L.L.C.

Description: § 4(d) Rate Filing: Nautilus contact info change to be effective 1/1/2018.

Filed Date: 11/30/17.

Accession Number: 20171130-5183.

Comments Due: 5 p.m. ET 12/12/17.

Docket Numbers: RP18-221-000.

Applicants: Equitrans, L.P.

Description: § 4(d) Rate Filing: Non-Conforming Negotiated Rate Gathering Agreements to be effective 6/9/2010.

Filed Date: 11/30/17.

Accession Number: 20171130-5212.

Comments Due: 5 p.m. ET 12/12/17.

Docket Numbers: RP18-222-000.

Applicants: Destin Pipeline Company, L.L.C.

Description: § 4(d) Rate Filing: Negotiated Rate Agreements Schedule to be effective 1/1/2018.

Filed Date: 11/30/17.

Accession Number: 20171130-5230.

Comments Due: 5 p.m. ET 12/12/17.

Docket Numbers: RP18-223-000.

Applicants: Gulf South Pipeline Company, LP.

Description: § 4(d) Rate Filing: Amendments to Neg Rate Agmts (Entergy 35233-6, Mobile 38531-5) to be effective 6/1/2016.

Filed Date: 12/1/17.

Accession Number: 20171201-5017.

Comments Due: 5 p.m. ET 12/13/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 1, 2017.
Nathaniel J. Davis, Sr.,
Deputy Secretary.

[FR Doc. 2017-26393 Filed 12-6-17; 8:45 am]

BILLING CODE 6717-01-P